DEPARTMENT OF THE INTERIOR

Minerals Management Service

Minerals Management Service Panel Discussion on Published Natural Gas Index Pricing

AGENCY: Minerals Management Service (MMS), Interior.

ACTION: Notice of panel discussion.

SUMMARY: This notice announces a panel discussion regarding Published Natural Gas Index Pricing—A Panel Discussion on Current Issues. The panel will be held on April 26, 2005, in Houston, Texas. The intent of the panel discussion is to bring together some of the leading experts in gas marketing to provide information that will be helpful in answering the following question:

Do the published natural gas price indices in the United States now have sufficient liquidity, transparency, and accuracy to truly represent the value of natural gas commodities in today's marketplace?

The MMS neither endorses nor opposes possible future use of published natural gas price indices as a basis for natural gas valuation for Federal royalties. This panel is being held in conjunction with the Seventh Annual Industry Awards Program, which honors exceptional mineral revenue reporting, commendable corporate leadership practices, and excellent safety records. Attendance at the panel discussion is free of charge. The cost of the awards program and luncheon is $50, and we encourage you to register and pay online by credit card for the awards program and luncheon. All attendees should register by Friday, April 15, 2005. Information about the event, registration, hotel reservations, and award selection criteria are available at the following Web site: http://www.mms.gov/awards.

DATES: Tuesday, April 26, 2005. Panel hours are 8:30 a.m. to 11:15 a.m., central time. The awards program and luncheon is scheduled to begin at 11:30 a.m., central time.

ADDRESSES: InterContinental Houston Hotel, 2222 West Loop-South, Houston, Texas, 77027, telephone (713) 627-7600.

FOR FURTHER INFORMATION CONTACT: Mary Williams, Manager, Federal Onshore Oil and Gas Compliance and Asset Management, Minerals Revenue Management, Minerals Management Service, telephone (303) 231-3403, FAX (303) 231-3744, e-mail to mary.williams@mms.gov, PO Box 25165, MS 392B2, Denver, Colorado 80225-0165.

Dated: March 23, 2005.
Lucy Querques Denett,
Associate Director for Minerals Revenue Management.

[FR Doc. 05-6985 Filed 4-7-05; 8:45 am]

BILLING CODE 4310-MR-P